DEPARTMENT OF HOMELAND SECURITY

Coast Guard

[USCG-2010-0125]

Great Lakes Pilotage Advisory Committee

AGENCY: Coast Guard, DHS.

ACTION: Notice of meeting.

SUMMARY: The Great Lakes Pilotage Advisory Committee (GLPAC) will meet at Coast Guard Marine Safety Unit Cleveland, Ohio. GLPAC provides advice and makes recommendations to the Secretary on a wide range of issues related to pilotage on the Great Lakes, including the rules and regulations that govern the registration, operating requirements, and training policies for all U.S. registered pilots. The Committee also advises on matters related to ratemaking to determine the appropriate charge for pilot services on the Great Lakes.

DATES: GLPAC will meet on Tuesday, March 16, 2010, and Wednesday, March 17, 2010 from 9 a.m. to 4 p.m. The meeting may close early if all business is finished. Written material and requests to make oral presentations or to have a copy of your material distributed to each member of the committee should reach us on or before March 9, 2010.

ADDRESSES: GLPAC will meet at Coast Guard Marine Safety Unit Cleveland, 1055 E. 9th Street, Cleveland, OH 44114, in the main conference room. Members of the public must produce valid photo identification for access to the facility. Send written material and requests relating to the GLPAC meeting to Mr. John Bobb (see FOR FURTHER INFORMATION CONTACT). Electronically submitted material must be in Adobe or Microsoft Word format. A copy of this notice is available in our online docket, USCG-2010-0125, at http://www.regulations.gov; enter the docket number for this notice (USCG-2010-0125) in the Search box, and click “Go.”

FOR FURTHER INFORMATION CONTACT: Mr. John Bobb, GLPAC Assistant Designated Federal Official (ADFO), Commandant (CG-54121), U.S. Coast Guard Headquarters, 2100 Second Street, SW., Stop 7581, Washington, DC 20593-7581; telephone 202-372-1532, fax 202-372-1991, or e-mail at john.k.bobb@uscg.mil.

SUPPLEMENTARY INFORMATION: The GLPAC is a Federal advisory committee under 5 U.S.C. App. 2 (Pub. L. 92-463). It was established under the authority of 46 U.S.C. 9307, and advises the Secretary of Homeland Security and the Coast Guard on Great Lakes pilot registration, operating requirements, training policies, and pilotage rates.

GLPAC meets at least once a year but may also meet at other times at the call of the Secretary. Further information about GLPAC is available by searching on “Great Lakes Pilotage Advisory Committee” at http://www.fido.gov/facadatabase/.

Agenda of Meeting

The agenda for the March 16-17, 2010 Committee meeting is as follows:

(1) Continue the GLPAC review of public comments solicited by the Coast Guard in the Federal Register of July 21, 2009 (“Great Lakes Pilotage Ratemaking Methodology,” 74 FR 35838), in accordance with requirements of 46 U.S.C. 9307(d) for Coast Guard consultation with GLPAC before taking any significant action relating to Great Lakes pilotage; and

(2) Appointment of seventh member in compliance with requirements of 46 U.S.C. 9307(b)(2)(E). Applications for this position were solicited in a Federal Register notice published August 26, 2009 (74 FR 43148) and will be accepted until the position is filled.

Procedural

The meeting is open to the public. Please note that the meeting may close early if all business is finished. At the Chair's discretion, members of the public may make oral presentations during the meeting.

Information on Services for Individuals With Disabilities

For information on facilities or services for individuals with disabilities or to request special assistance at the meeting, contact Mr. John Bobb (see FOR FURTHER INFORMATION CONTACT) as soon as possible.

Dated: February 19, 2010.
W.A. Muilenburg,
Captain, U.S. Coast Guard, Office of Waterways Management.

[FR Doc. 2010-3836 Filed 2-24-10; 8:45 am]

BILLING CODE 9110-04-P